DEPARTMENT OF HEALTH AND HUMAN SERVICES

Substance Abuse and Mental Health Services Administration (SAMHSA)

Notice of Meetings

Pursuant to Public Law 92-463, notice is hereby given of the following meetings of SAMHSA Special Emphasis Panels I in July, August and September 2000.

A summary of the meetings and a roster of the members may be obtained from: Ms. Coral Sweeney, Review Specialist, SAMHSA, Office of Policy and Program Coordination, Division of Extramural Activities, Policy, and Review, 5600 Fishers Lane, Room 17-89, Rockville, Maryland 20857. Telephone: 301-443-2998.

Substantive program information may be obtained from the individual named as Contact for the meeting listed below.

The meetings will include the review, discussion and evaluation of individual grant applications. These discussions could reveal personal information concerning individuals associated with the applications. Accordingly, these meetings are concerned with matters exempt from mandatory disclosure in Title 5 U.S.C. 552b©(6) and 5 U.S.C. App. 2, § 10(d).

Committee Name: SAMHSA Special Emphasis Panel I (SEP I).

Meeting Date: July 10, 2000.

Place: Bethesda Marriott 5151 Pooks Hill Road Bethesda, MD 20814.

Closed: July 10, 2000.

Panel: Youth Violence Prevention, SM 00-005; Co-Occurring Disorders, TI 00-002; Criminal Justice Diversion Supplement, SM 00-006; Women/Co-Occurring Violence, Phase II, TI 00-003; Children's Sub-Set Study & Coordinating Center, TI 00-006.

Contact: Diane McMenamin, Director, Division of Extramural Activities, Policy and Review, Parklawn Building, 5600 Fishers Lane, Room 1789, Rockville, Maryland 20857.

Committee Name: SAMHSA Special Emphasis Panel I (SEP I).

Meeting Dates: July 24, 2000.

Place: Bethesda Marriott, 5151 Pooks Hill Road, Bethesda, MD 20814.

Closed: July 24, 2000.

Panel: Targeted Capacity Expansion, PA 00-001; Practice Research Collaboration, TI 00-004.

Contact: Diane McMenamin, Director, Division of Extramural Activities, Policy and Review, Parklawn Building, 5600 Fishers Lane, Room 17-89, Rockville, Maryland 20857.

Committee Name: SAMHSA Special Emphasis Panel I (SEP I).

Meeting Dates: July 31, 2000.

Place: Bethesda Marriott, 5151 Pooks Hill Road, Bethesda, MD 20814.

Closed: July 31, 2000.

Panel: Family Strengthening, SP 00-002.

Contact: Diane McMenamin, Director, Division of Extramural Activities, Policy and Review, Parklawn Building, 5600 Fishers Lane, Room 17-89, Rockville, Maryland 20857.

Committee Name: SAMHSA, Special Emphasis Panel I (SEP I).

Meeting Dates: August 7, 2000.

Place: Bethesda Marriott, 5151 Pooks Hill Road, Bethesda, MD 20814.

Closed: August 7, 2000.

Panel: Family Strengthening, SP 00-002; Targeted Capacity Expansion/HIV, TI 00-005.

Contact: Diane McMenamin, Director, Division of Extramural Activities, Policy and Review, Parklawn Building, 5600 Fishers Lane, Room 17-89, Rockville, Maryland 20857.

Committee Name: SAMHSA Special Emphasis Panel I (SEP I).

Meeting Dates: August 14, 2000.

Place: Bethesda Marriott, 5151 Pooks Hill Road, Bethesda, MD 20814.

Closed: August 14, 2000.

Panel: Coalitions for Prevention, SM 00-004.

Contact: Diane McMenamin, Director, Division of Extramural Activities, Policy and Review, Parklawn Building, 5600 Fishers Lane, Room 17-89, Rockville, Maryland 20857.

Committee Name: SAMHSA Special Emphasis Panel I (SEP I).

Meeting Dates: August 28, 2000.

Place: Bethesda Marriott, 5151 Pooks Hill Road, Bethesda, MD 20814.

Closed: August 28, 2000.

Panel: HIV Integration Planning, TI 00-008.

Contact: Diane McMenamin, Director, Division of Extramural Activities, Policy and Review, Parklawn Building, 5600 Fishers Lane, Room 17-89, Rockville, Maryland 20857.

Committee Name: SAMHSA Special Emphasis Panel I (SEP I).

Meeting Dates: September 18, 2000.

Place: Bethesda Marriott, 5151 Pooks Hill Road, Bethesda, MD 20814.

Closed: September 18, 2000.

Panel: Conference Grants, PA 98-090.

Contact: Diane McMenamin, Director, Division of Extramural Activities, Policy and Review, Parklawn Building, 5600 Fishers Lane, Room 17-89, Rockville, Maryland 20857.

Committee Name: SAMHSA Special Emphasis Panel I (SEP I).

Meeting Dates: July or August, 2000.

Place: Substance Abuse and Mental Health Administration, Division of Extramural Activities, Policy and Review, Parklawn Building, Room 17-89, 5600 Fishers Lane, Rockville, Maryland 20857.

Closed: Entire Meeting.

Panel: Supplement to Aging, Mental Health/Substance Abuse Primary Care Coordinating Center, SM 00-009; Coal Miners, SM 00-008; Minority Fellowships, SM 00-003.

Contact: Diane McMenamin, Director, Division of Extramural Activities, Policy and Review, Parklawn Building, 5600 Fishers Lane, Room 17-89, Rockville, Maryland 20857.

Committee Name: SAMHSA Special Emphasis Panel I (SEP I).

Meeting Dates: July or August, 2000.

Place: Substance Abuse and Mental Health Administration, Division of Extramural Activities, Policy and Review, Parklawn Building, Room 17-89, 5600 Fishers Lane, Rockville, Maryland 20857.

Closed: Entire Meeting.

Panel: Chicago Homeless Services Integration, SM 00-010; Florida Children Services, SM 00-007.

Contact: Diane McMenamin, Director, Division of Extramural Activities, Policy and Review, Parklawn Building, 5600 Fishers Lane, Room 17-89, Rockville, Maryland 20857.

Committee Name: SAMHSA Special Emphasis Panel I (SEP I)

Meeting Dates: July or August, 2000.

Place: Substance Abuse and Mental Health Administration, Division of Extramural Activities, Policy and Review, Parklawn Building, Room 17-89, 5600 Fishers Lane, Rockville, Maryland 20857.

Closed: Entire Meeting.

Panel: Connecticut Urban Health Initiative, SM 00-012, Violence Prevention Coordinating Center, SM 00-007.

Contact: Diane McMenamin, Director, Division of Extramural Activities, Policy and Review, Parklawn Building, 5600 Fishers Lane, Room 17-89, Rockville, Maryland 20857.

Committee Name: SAMHSA Special Emphasis Panel I (SEP I);

Meeting Dates: July or August, 2000.

Place: Substance Abuse and Mental Health Administration, Division of Extramural Activities, Policy and Review, Parklawn Building, Room 17-89, 5600 Fishers Lane, Rockville, Maryland 20857.

Closed: Entire Meeting.

Panel: Four State Consortium Prevention Studies of Fetal Alcohol Syndrome, SP 00-003; Co-Occurring and Justice Center, TI 00-007.

Contact: Diane McMenamin, Director, Division of Extramural Activities, Policy and Review, Parklawn Building, 5600 Fishers Lane, Room 17-89, Rockville, Maryland 20857.

Dated: June 21, 2000.
Coral Sweeney,
Review Specialist, Substance Abuse and Mental Health Services Administration.

[FR Doc. 00-16256 Filed 6-27-00; 8:45 am]

BILLING CODE 4162-20-U